SECURITIES AND EXCHANGE COMMISSION

[File No. 500-1]

BIOTECH Holdings Ltd., California Oil & Gas Corp., Central Minera Corp., Chemokine Therapeutics Corp., and Global Precision Medical Inc.; Order of Suspension of Trading

February 17, 2012.

It appears to the Securities and Exchange Commission that there is a lack of current and accurate information concerning the securities of BIOTECH Holdings Ltd. because it has not filed any annual reports since the period ended March 31, 2008.

It appears to the Securities and Exchange Commission that there is a lack of current and accurate information concerning the securities of California Oil & Gas Corp. because it has not filed any periodic reports since the period ended August 31, 2008.

It appears to the Securities and Exchange Commission that there is a lack of current and accurate information concerning the securities of Central Minera Corp. because it has not filed any annual reports since the period ended June 30, 2008.

It appears to the Securities and Exchange Commission that there is a lack of current and accurate information concerning the securities of Chemokine Therapeutics Corp. because it has not filed any periodic reports since the period ended September 30, 2008.

It appears to the Securities and Exchange Commission that there is a lack of current and accurate information concerning the securities of Global Precision Medical Inc. because it has not filed any periodic reports since the period ended March 31, 2007.

The Commission is of the opinion that the public interest and the protection of investors require a suspension of trading in the securities of the above-listed companies. Therefore, it is ordered, pursuant to Section 12(k) of the Securities Exchange Act of 1934, that trading in the securities of the above-listed companies is suspended for the period from 9:30 a.m. EST on February 17, 2012, through 11:59 p.m. EST on March 2, 2012.

By the Commission.
Elizabeth M. Murphy,
Secretary.

[FR Doc. 2012-4195 Filed 2-17-12; 11:15 am]

BILLING CODE 8011-01-P